DEPARTMENT OF COMMERCE

National Oceanic and Atmospheric Administration

50 CFR Part 622

[Docket No. 131211999-4854-01]

RIN 0648-BD86

Fisheries of the Caribbean, Gulf of Mexico, and South Atlantic; Coastal Migratory Pelagic Resources in the Gulf of Mexico and Atlantic Region; Amendment 20B

AGENCY: National Marine Fisheries Service (NMFS), National Oceanic and Atmospheric Administration (NOAA), Commerce.

ACTION: Proposed rule; request for comments.

SUMMARY: NMFS proposes regulations to implement Amendment 20B to the Fishery Management Plan for the Coastal Migratory Pelagic Resources (CMP) in the exclusive economic zone (EEZ) of the Gulf of Mexico and Atlantic Region (FMP) (Amendment 20B), as prepared and submitted by the Gulf of Mexico (Gulf) and South Atlantic Fishery Management Councils (Councils). If implemented, Amendment 20B and this proposed rule would modify Gulf migratory group king mackerel trip limits and fishing years, allow transit through areas closed to king mackerel fishing, create zones and quotas for Atlantic migratory group king and Spanish mackerel, modify the framework procedures for the FMP, increase annual catch limits (ACLs) for cobia, and create an east coast zone and quotas for Gulf migratory group cobia. In addition, this rule proposes to reorganize the description of CMP zones in the regulations and clarify that spearguns and powerheads are allowable gear for cobia in Federal waters of the South Atlantic and Mid-Atlantic regions. The purpose of this rule is to help achieve optimum yield (OY) for the CMP fishery while ensuring allocations are fair and equitable and fishery resources are utilized efficiently.

DATES: Written comments must be received on or before December 1, 2014.

ADDRESSES: You may submit comments on the proposed rule, identified by “NOAA-NMFS-2013-0176” by any of the following methods:

• Electronic Submission: Submit all electronic public comments via the Federal e-Rulemaking Portal. Go to www.regulations.gov/#!docketDetail;D=NOAA-NMFS-2013-0176, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 20B, which includes an environmental assessment, a Regulatory Flexibility Act analysis, and a regulatory impact review, may be obtained from the Southeast Regional Office Web site at http://sero.nmfs.noaa.gov/sustainable_fisheries/gulf_sa/cmp/index.html.

FOR FURTHER INFORMATION CONTACT: Susan Gerhart, telephone: 727-824-5305, or email: Susan.Gerhart@noaa.gov.

SUPPLEMENTARY INFORMATION: The CMP fishery in the Gulf and Atlantic is managed under the FMP. The FMP was prepared by the Councils and implemented through regulations at 50 CFR part 622 under the authority of the Magnuson-Stevens Fishery Conservation and Management Act (Magnuson-Stevens Act).

Background

The current management regime for CMP species (king mackerel, Spanish mackerel, and cobia) includes two migratory groups for each species, the Gulf migratory group and the Atlantic migratory group. Each migratory group is managed separately. Amendment 20B and this rule propose changes and additions to fishing regulations for each migratory group to allow for more targeted management of CMP species.

Management Measures Contained in Amendment 20B and This Proposed Rule

Amendment 20B and this rule would modify Gulf migratory group king mackerel trip limits and fishing years, allow transit through areas closed to king mackerel fishing, create zones and quotas for Atlantic migratory group king and Spanish mackerel, modify the framework procedures for the FMP, increase ACLs for cobia, and create an east coast zone and quotas for Gulf migratory group cobia. The purpose of this rule is to help achieve OY for the CMP fishery while ensuring allocations are fair and equitable and fishery resources are utilized efficiently.

Gulf Migratory Group King Mackerel Commercial Hook-and-Line Trip Limits

The Gulf eastern zone's Florida west coast subzone is comprised of two subzones, northern and southern. Currently, from July 1, each fishing year, until 75 percent of the respective northern or southern subzone's hook-and-line gear king mackerel quota has been harvested, the commercial trip limit is 1,250 lb (567 kg) per day. From the date that 75 percent of the respective northern or southern subzone's hook-and-line gear quota has been harvested, the trip limit is reduced to 500 lb (227 kg) per day. This trip limit would remain in effect for a subzone until that subzone's quota is reached or projected to be reached and that subzone is closed by Federal Register notice. This rule proposes to remove the trip limit reduction, which would allow the harvest of 1,250 lb (567 kg) per day until the quota for the subzone has been met or projected to be met and the respective subzone is closed to king mackerel harvest. Originally, the trip limit reductions were intended to extend the fishing seasons; however, NMFS has not always been able to implement the reductions in a timely manner before the entire quota is landed. Also, many vessels cannot make a profit when the trip limit is reduced to 500 lb (227 kg), so the extended season did not benefit them.

The western zone hook-and-line trip limit remains 3,000 lb (1,361 kg) per day until the western zone's quota has been harvested and the zone is closed to king mackerel harvest.

Gulf Migratory Group Eastern Zone Northern and Southern Subzone King Mackerel Fishing Years

Currently the Florida west coast northern subzone fishing year begins July 1 and ends on June 30, or when the quota is reached or projected to be reached. This rule proposes to change the Florida west coast northern subzone fishing year to October 1 through September 30. Some fishers have indicated that a later opening would allow them to harvest king mackerel more efficiently because fish are present in larger numbers closer to shore in the fall, as opposed to the summer. They also claim that fish can be kept in better condition due to cooler weather. A later opening might also discourage movement of fishers from the Atlantic coast of Florida into the Florida Panhandle, as has been the case for several years. Such a change could extend the fishing season. Because the Councils did not select a preferred alternative for the southern subzone, the fishing year in that zone will remain July through June.

Transit Through Areas Closed to King Mackerel

Currently, persons who fish with a commercial vessel permit for king mackerel may not fish for or possess king mackerel in a closed zone. This rule proposes to allow a vessel with a valid commercial vessel permit for king mackerel that has onboard king mackerel harvested in an open area of the EEZ to transit through areas closed to the harvest of king mackerel due to a quota closure, if fishing gear is appropriately stowed. For the purpose of this provision, transit means a direct and non-stop continuous course through the area. Fishing gear appropriately stowed means that: (1) A gillnet must be left on the drum (any additional gillnets not attached to the drum must be stowed below deck), (2) a rod and reel must be removed from the rod holder and stowed securely on or below deck, (3) terminal gear (i.e., hook, leader, sinker, flasher, or bait) must be disconnected and stowed separately from the rod and reel, and (4) sinkers must be disconnected from the down rigger and stowed separately.

Many fishermen live and work near a boundary between two zones, and may wish to fish in one zone, but land in another. When the fisherman's home port is located in a closed zone, the fisherman must travel to another port within the open zone to land their catch. This transit provision would allow fishermen to operate their businesses more economically, and would promote greater safety at sea through decreased transit times.

Atlantic Migratory Group King and Spanish Mackerel Zones

Currently, one commercial quota applies to Atlantic migratory group king mackerel and one commercial quota applies to Atlantic migratory group Spanish mackerel. This rule proposes to create northern and southern zones for Atlantic migratory group king and Spanish mackerel, each with separate commercial quotas. The South Atlantic Council expressed concern that the commercial quota for king mackerel could be harvested by fishermen in one state before fish migrate to another state. The boundary between the zones would be a line extending from the South Carolina/North Carolina state line. The commercial ACL would be split between the zones based on landings from the 2002/2003-2011/2012 fishing years. The northern zone allocation would be calculated using combined commercial landings from North Carolina, Virginia, Maryland, Delaware, Pennsylvania, New Jersey, and New York. The southern zone allocation would be calculated using combined commercial landings from South Carolina, Georgia, the Florida east coast, and Florida Keys on the Atlantic side.

For king mackerel, applying this formula results in an allocation of 33.3 percent for the northern zone and 66.7 percent for the southern zone. For Spanish mackerel, the formula results in an allocation of 19.9 percent for the northern zone and 80.1 percent for the southern zone. NMFS would monitor the commercial quotas, and close Federal waters in each zone when the respective quota is reached or projected to be reached. Transfer of quota between zones would be allowed through a request to NMFS initiated by either North Carolina (northern Zone) or Florida (southern Zone). The recreational ACLs for Atlantic migratory group king and Spanish mackerel will remain unchanged.

Modifications to the FMP Framework Procedures

Currently, any changes to acceptable biological catches (ABCs) and ABC control rules, ACLs and ACL control rules, and accountability measures must be established through a plan amendment. This rule proposes changes that would allow modification to these management measures under the standard documentation process of the open framework procedure. Adding the items described above to the framework procedure would be consistent with the frameworks of other South Atlantic and Gulf of Mexico FMPs and would expedite changes needed after a new stock assessment. The standard open framework procedure involves the development of a framework amendment, with appropriate environmental analyses, which receives Council review and public comment. This rule also proposes to modify the framework procedures to the FMP to designate responsibility to each council (Gulf or South Atlantic) for setting specified management measures for the migratory groups of each species. This change will allow the appropriate Council to establish or modify the specified management measures without approval from the other council.

Additionally, “sale and purchase restrictions” and “transfer at sea provisions” were previously erroneously included in the final rule implementing Amendment 18 to the FMP for modifications that are allowed through the framework process (76 FR 82058, December 29, 2011). Thus, NMFS proposes to remove these two items from the list in § 622.389.

Cobia Zones, ACLs, and Annual Catch Targets (ACTs)

This rule also proposes to address the results of the most recent stock assessment for Gulf and South Atlantic cobia. In Amendment 18 to the FMP, the Councils established separate migratory groups of cobia using the Councils' boundary in Monroe County. However, the determination in the most recent stock assessment is that the biological boundary should be at the Florida/Georgia line. The stock assessment results define Georgia north through the Mid-Atlantic area for the Atlantic migratory group, and the entire east coast of Florida through Texas for the Gulf migratory group. To adjust for this difference between the Councils' jurisdictional areas for cobia and the areas used by the stock assessment, Gulf migratory group cobia would be divided into a Gulf zone (Texas through the Gulf side of the Florida Keys) and a Florida east coast zone (east coast of Florida and Atlantic side of the Florida Keys, i.e., the area within the South Atlantic Council's jurisdiction). The Gulf ACL would be allocated between the zones based on landings from the 1998-2012 fishing years. The South Atlantic Council would be responsible for regulations for the Florida east coast zone, similar to management of the Florida east coast subzone for king mackerel. The Councils and NMFS have determined allocating cobia between these zones would result in a fair and equitable distribution of the resource. This rule also proposes increases in the ACLs for both migratory groups, the recreational ACT for the Atlantic migratory group, and the stock ACT for the Gulf zone.

Additional Management Measures Contained in This Proposed Rule

This rule proposes to reorganize the description of the CMP zones and subzones so they are all contained in one place in the regulations and are easier for the public to find and understand (see the addition of § 622.369 in the codified text below). Currently, the zone descriptions are found in multiple locations in the regulations, and NMFS determined that consolidating these descriptions would be useful. Additionally, NMFS proposes to include figures of these zones in the regulations to provide visual guides for the descriptions of these zones (see Appendix G to part 622 in the codified text below).

In addition, this rule would clarify that spearguns and powerheads are allowable gear for cobia in Federal waters of the South Atlantic and Mid-Atlantic regions. In 1998, the Councils approved Amendment 8 to the FMP, which included lists of allowable gear for each CMP species by Council jurisdictional area. The implementing regulations for Atlantic cobia listed automatic reel, bandit gear, handline, rod and reel, and pelagic longline as allowable gear in the directed fishery. Unauthorized gear (with the exception of some gillnets) was subject to the possession limit for cobia (2 fish per person per day). The final rule implementing Amendment 8 clarified that spearguns and powerheads would be allowed for take of cobia under the 2-fish possession limit.

In 2002, FWC enforcement questioned the use of this gear based on the regulations. During its June 2002 meeting, the South Atlantic Council discussed its intent to allow this gear for cobia. NMFS released a Southeast Fishery Bulletin in July of that year clarifying that spearguns and powerheads are allowable gear for cobia, and that the regulations would be revised to more clearly express that determination. However, the regulations were not modified at that time. In 2013, FWC enforcement again asked NMFS to clarify this issue. Based on the history mentioned above, NMFS is now proposing to update the regulations to clarify that spearguns and powerheads are allowable gear for cobia in Federal waters of the South Atlantic and Mid-Atlantic regions.

CMP Framework Amendment 1

The Councils developed Framework Amendment 1 to the FMP, which would, in part, increase the ACLs for Atlantic migratory group Spanish mackerel, based on the results of the most recent stock assessments for Atlantic and Gulf migratory group Spanish mackerel. A proposed rule for Framework Amendment 1 published on July 31, 2014 (79 FR 44369) and the comment period ended on September 2, 2014. Implementation of the increased ACL for Atlantic migratory group Spanish mackerel through the final rule for Framework Amendment 1 would increase the ACL for Atlantic migratory group Spanish mackerel. Therefore, if a final rule implementing Framework Amendment 1 is published before this rule becomes effective, the values for the northern and southern zone quotas for Atlantic migratory group Spanish mackerel contained in this proposed rule for Amendment 20B would increase in the final rule.

Classification

Pursuant to section 304(b)(1)(A) of the Magnuson-Stevens Act, the Assistant Administrator has determined that this proposed rule is consistent with Amendment 20B, the FMP, the Magnuson-Stevens Act and other applicable law, subject to further consideration after public comment.

This proposed rule has been determined to be not significant for purposes of Executive Order 12866.

The Chief Counsel for Regulation of the Department of Commerce certified to the Chief Counsel for Advocacy of the Small Business Administration (SBA) that this proposed rule, if implemented, would not have a significant economic impact on a substantial number of small entities. The factual basis for this determination is as follows:

The objective of the proposed actions is to achieve OY while ensuring allocations are fair and equitable and fishery resources are utilized efficiently. The Magnuson-Stevens Act provides the statutory basis for this proposed rule.

This proposed rule, if implemented, would be expected to directly affect all commercial and for-hire fishing vessels that harvest CMP species managed in the Gulf and Atlantic regions. A Federal commercial permit is required to harvest king mackerel or Spanish mackerel in the Gulf or Atlantic EEZ in excess of the bag limit and to sell these species. On November 7, 2013, 1,479 vessels possessed a valid (non-expired) or renewable commercial king mackerel permit, and 1,813 vessels possessed a valid commercial Spanish mackerel permit. A renewable permit is an expired permit that may not be actively fished, but is renewable for up to 1 year after expiration. Because the Federal commercial Spanish mackerel permit is an open access permit, expired permits are not renewed; if a permit expires before renewal, a new permit will be issued (if applied for) instead of renewal of the expired permit. A Federal commercial permit is not required to harvest cobia. However, over the period 2008-2012, an average of 432 commercial vessels harvested cobia in the Atlantic and 266 commercial vessels harvested cobia in the Gulf each year. Many vessels possess both the king mackerel and Spanish mackerel permits and harvest each of the three CMP species. As a result, many, if not most, of the vessels harvesting cobia are expected to be included in the counts of vessels having the individual king or Spanish mackerel commercial permits. The number of unique vessels across all three species is unknown. The estimated average annual gross revenue from all fishing activity by commercial vessels in these fleets ranges from an average of approximately $31,000 (2011 dollars) for vessels with recorded harvests of Atlantic migratory group Spanish mackerel to approximately $114,000 (2011 dollars) for vessels with recorded harvests of Gulf migratory group cobia. The average annual gross revenue by vessels with recorded harvests of the other species encompassed by this proposed rule falls within this range.

A Federal for-hire (charter/headboat) vessel permit is required for for-hire vessels to harvest CMP species in the Gulf or Atlantic EEZ. On November 7, 2013, 1,360 vessels had a valid or renewable Federal Gulf for-hire CMP permit and 1,427 vessels had a valid Federal Atlantic for-hire CMP permit. Similar to the Spanish mackerel commercial permit, the Atlantic for-hire CMP permit is an open access permit and expired permits are not renewed. The Gulf for-hire permit is limited access. The for-hire fleet is comprised of charterboats, which charge a fee on a vessel basis, and headboats, which charge a fee on an individual angler (head) basis. Although the for-hire permit application collects information on the primary method of operation, the resultant permit itself does not identify the permitted vessel as either a headboat or a charter vessel, operation as either a headboat or charter vessel is not restricted by the permitting regulations, and vessels may operate in both capacities. However, only federally permitted headboats are required to submit harvest and effort information to NMFS Southeast Region Headboat Survey (HBS). Participation in the HBS is based on determination by the Southeast Fisheries Science Center that the vessel primarily operates as a headboat. On March 1, 2013, the HBS included 70 vessels in the Gulf and 75 vessels in the Atlantic. As a result, 1,290 of the vessels with a valid or renewable Gulf for-hire CMP permit and 1,400 of the vessels with a valid Atlantic for-hire CMP permit are expected to primarily operate as charterboats. In the Gulf, the average charterboat is estimated to earn approximately $80,000 (2011 dollars) in annual revenue and the average headboat is estimated to earn approximately $242,000. For the Atlantic, the comparable estimates are approximately $111,000 (2011 dollars) and $197,000 for charterboats and headboats, respectively.

NMFS has not identified any other small entities that would be expected to be directly affected by this proposed rule.

The SBA has established size criteria for all major industry sectors in the U.S., including fish harvesters. A business involved in fish harvesting is classified as a small business if it is independently owned and operated, is not dominant in its field of operation (including its affiliates), and has combined annual receipts not in excess of $19.0 million (NAICS code 114111, finfish fishing) for all its affiliated operations worldwide. The receipts threshold for a business involved in the for-hire fishing industry is $7.0 million (NAICS code 487210, fishing boat charter operation). Because the average annual revenue estimates provided above are significantly less than the SBA revenue thresholds for the appropriate sectors, all commercial and for-hire vessels expected to be directly affected by this proposed rule are believed to be small business entities.

This proposed rule would not require any new reporting, record-keeping, or other compliance requirements associated with reporting or record-keeping that may require professional skills.

This proposed rule contains seven separate actions. The first action would eliminate the commercial trip limit reduction provisions that are currently required in two Gulf subzones when 75 percent of the subzone quota is harvested. Trip limit reductions are intended to extend the time before the quota is harvested and, because quota monitoring is not instantaneous, reduce the likelihood and amount of quota overages. However, trip limit reductions lower the profitability of trips, as fewer pounds can be harvested. Even when other species can be substituted, which may not routinely be possible, trip profits would be expected to decline when trip limit reductions are imposed; otherwise fishermen would have shifted to more profitable species or fishing practices in the absence of the trip limit reductions. In the case of Gulf migratory group king mackerel, the reduced trip revenue and profits under the current trip limit reductions are believed to exceed the economic benefits associated with prolonging the season or addressing quota issues. As a result, the proposed elimination of the commercial trip limit reduction for Gulf migratory group king mackerel in the two subzones would be expected to result in increased revenue and profits to affected entities.

The second action would change the fishing year for the Gulf group king mackerel eastern zone northern subzone to begin October 1. This proposed action would be expected to affect commercial vessels that harvest king mackerel. The economic effects of these proposed changes on these small entities are unknown. Participation and financial success in king mackerel commercial fishing is affected by the migratory behavior of the species, regional quotas, transient and part-time participation by fishermen that homeport in each respective zone or travel from ports in other zones, and the ability to participate in other fisheries. Although king mackerel may be present throughout the Gulf year-round, migration patterns cause stock densities in a given area to vary independent of fishing pressure. Regional quotas result in zone and subzone closures when quotas are met, although king mackerel remain present and stock densities may remain high. Many fishermen travel throughout the Gulf to take advantage of migratory stock pulses (surges in the stock in an area because fish have migrated into that area) or in reaction to fishing restrictions, such as a king mackerel quota closure or restriction on alternative species, near their homeport. Other fishermen may harvest king mackerel on a part-time basis, which can cause wide fluctuation in the amount of fishing effort applied. Finally, some fishermen possess permits to participate in other fisheries, as a commercial or for-hire vessel, while other fishermen do not have these permits and, as a result, have more limited options.

These factors have contributed to the current distribution of fishing effort, harvest patterns, dockside prices, closure patterns, and potentially variable year-to-year financial success of individual businesses and the commercial king mackerel fleet as a whole. Changing the fishing year in the northern subzone would be expected to alter these patterns, improving the economic situation for some fishermen, but worsening the situation for others. Identifying the entities that would be expected to financially gain, lose, or not be affected as a result of changing the fishing year, as well as quantifying the respective changes, is not possible because of the complexity of the situation, the wide range of potential outcomes, and the absence of definitive information on how fishermen may change their fishing patterns. However, supporting comments provided by the industry during the amendment development process suggest the proposed change would be economically beneficial because it would allow dually permitted vessels (vessels that possess a commercial permit and a charter/headboat permit) to commercially harvest king mackerel during a period when charter activity typically declines. This commercial activity by these vessels could not occur in the absence of this proposed action because the quota has normally already been harvested by October.

The third action would allow vessels with king mackerel legally harvested in open areas of the EEZ to travel through areas closed to king mackerel fishing if the transit is continuous and fishing gear is stowed. This proposed action would be expected to result in an unquantifiable increase in economic benefits to commercial fishermen by allowing greater flexibility in port selection and a reduction in travel costs.

Although separate actions, the fourth and fifth actions are similar because they would establish northern and southern zones for Atlantic migratory group king mackerel and Atlantic migratory group Spanish mackerel, establish quotas for each zone, and allow transfer of quota between zones. The proposed action for Atlantic migratory group king mackerel would not be expected to have a significant adverse economic effect on commercial fishing businesses. The proposed northern zone quota, 1,292,988 lb (586,489 kg), would be higher than the average landings in this zone during the 3 most recent fishing years for which final data are available, 2009-2010 through 2011-2012, by approximately 790,000 lb (358,338 kg). As a result, if the proposed northern zone quota is harvested, commercial fishermen in this zone who harvest king mackerel would be expected to increase their vessel revenue by approximately $6,300 (2011 dollars) per vessel (270 vessels), or approximately 17.9 percent of the average annual gross revenue per vessel (approximately $35,100 for vessels operating in either the northern or southern zone; average annual revenue estimates per zone are not available). For the southern zone, the proposed quota, 2,587,012 lb (1,173,449 kg), would be approximately 83,000 lb (37,648 kg) higher than the average landings for the three most recent fishing years. As a result, if the quota in the southern zone is harvested, the commercial fishermen who harvest king mackerel in this zone would be expected to increase their vessel revenue by approximately $211 (2011 dollars) per vessel (846 vessels), or approximately 0.6 percent of the average annual gross revenue per vessel.

The total Atlantic migratory group king mackerel quota, 3.71 million lb (1.68 million kg), has not been harvested since before the 2002-2003 fishing year. However, and the average amount of unharvested quota per fishing year during this period has been approximately 29 percent of the quota. This circumstance drives the outcome, as described in the previous paragraph, that fishermen in both zones can experience an increase in revenue under the proposed quotas if the quotas are harvested, rather than fishermen in one zone gaining at the expense of fishermen in the other zone. However, because this result depends on the quota being completely harvested, which would be an anomaly, the full projected increases in revenue may not occur. Further, for the southern zone, although an increase in revenue is forecast based on the average harvest for the most recent three fishing years (and would increase to approximately $2,000 per vessel, or approximately 6 percent of the average annual revenue if compared to average annual harvest from the 2002-2003 through 2011-2012 fishing years, which represent the most recent 9 fishing years for which final data are available), harvest in the 2009-2010 (approximately 2.776 million lb (1.259 million kg)) and 2010-2011 (approximately 3.113 million lb (1.412 million kg)) fishing years exceeded the proposed quota for the southern zone. The net increase in revenue relative to the three-year period previously discussed (2009-2010 through 2011-2012) is an artifact of the decline in harvest in the 2011-2012 fishing year (to approximately 1.623 million lb (0.736 million kg)). The king mackerel harvest in 2011-2012 was more similar to the average harvest over the 2002-2003 through 2011-2012 fishing years, approximately 1.787 million lb (0.811 million kg). As a result, the proposed southern zone king mackerel quota may result in a decline in revenue for some fishermen if fishing conditions in coming years more closely mirror those of 2009-2010 or 2010-2011 than either the most recent 3-year average, the longer 9-year average, or other fishing years when lower harvests occurred. Compared to the average harvest of the 2009-2010 and 2010-2011 fishing years, the proposed southern zone king mackerel quota would be expected to reduce the revenue per commercial vessel by approximately $900 per vessel, or approximately 2.6 percent of the average annual gross revenue per vessel.

For Atlantic migratory group Spanish mackerel, the proposed northern and southern zone quotas would be expected to have minor to no economic effects on the revenue of commercial vessels. The proposed quotas equal the average distribution of Spanish mackerel harvest across the northern and southern zones over the 2002-2003 through 2011-2012 fishing years. As a result, if harvest patterns in future years are consistent with the prior average harvest, no economic effects would be expected to occur. If future Spanish mackerel harvests without the proposed zone quotas follow the more recent 2009-2010 through 2011-2012 harvest patterns, then the proposed northern zone quota would be expected to result in a minor reduction in revenue per vessel (300 vessels), of approximately $173 (2011 dollars), or approximately 0.6 percent of the average annual gross revenue per vessel ($31,000 for vessels operating in either the northern or southern zone; average annual revenue estimates per zone are not available). For vessels in the southern zone, the proposed quota would be expected to result in a minor increase in average revenue per vessel (1,251 vessels), of approximately $41, or approximately 0.1 percent of the average annual gross revenue per vessel.

The sixth action would expand the range of actions that could be modified through a streamlined framework procedure instead of the plan amendment process. This proposed action would also designate Council responsibility for setting regulations for the migratory groups of each species. Collectively, these changes would be expected to allow regulatory changes to occur in a more timely and efficient manner. Although future regulatory changes may have direct adverse economic consequences, this proposed action would not make any regulatory changes but would, rather, simply change the administrative environment to allow these changes to be made in the future. As a result, this action would not be expected to have any direct economic effect on any small entities.

The seventh action would modify the Gulf and Atlantic migratory group cobia ACLs and ACTs. For the commercial sector, the proposed changes would be expected to increase the total ex-vessel revenue received by all vessels in the Atlantic zone by approximately $31,000 (2011 dollars), reduce total ex-vessel revenue by approximately $56,000 (2011 dollars) across all commercial vessels in the Florida east coast zone, and not have any effect on the ex-vessel revenue for vessels in the Gulf. For the Atlantic and Florida east coast zones, the net reduction in ex-vessel revenue for all vessels is expected to be approximately $25,000. The total expected reduction in ex-vessel revenue would equate to approximately $58 per vessel (432 vessels), or approximately 0.1 percent of the average annual gross revenue for these vessels ($41,600; 2011 dollars). For the recreational sector, the proposed changes would be expected to increase the total net operating revenue (NOR; NOR equals revenue minus non-labor operating expenses) received by all for-hire vessels in the Florida east coast zone by approximately $118,000 (2011 dollars), reduce the total NOR received by all for-hire vessels in the Atlantic zone by approximately $3,000 (2011 dollars), and not have any direct economic effect on for-hire vessels in the Gulf. The net expected increase in NOR for the for-hire vessels in the Atlantic and Florida east coast zones would be approximately $115,000 (2011 dollars), spread across all vessels. This increase is expected to all accrue to charterboats. Additional increases in NOR may accrue to headboats that operate in the Atlantic. However, the estimated changes in NOR are calculated based on expected increases in fishermen target trips, and target information is not collected from headboat fishermen. As a result, an estimate of the expected increase in NOR to Atlantic headboats is not available. The expected increase in NOR to charterboats would equate to approximately $80 per vessel (1,400 vessels), or a minor increase relative to average annual revenue ($111,000). The proposed changes in the ACLs and ACTs would not be expected to have any direct economic effect on any small entities in the Gulf because, although the new harvest limits would be higher than current limits, fishermen in the Gulf have not harvested the current lower harvest limit. As a result, the proposed changes for the Gulf migratory group would not be expected to result in increased harvest or associated revenue in the near term. However, the proposed changes in the ACLs and ACTs for the Gulf migratory group would allow an increase in ex-vessel revenue and profit to small business fishing entities in the Gulf if fishing behavior and harvest patterns change.

Finally, this rule proposes two administrative changes. First, this rule proposes to reorganize the description of CMP zones in the regulations so they are easier for the public to find and understand. Second, this rule proposes to clarify that spearguns and powerheads are allowable gear for cobia in Federal waters of the South Atlantic and Mid-Atlantic regions. Because these are administrative changes, neither change would be expected to have any direct economic effect on any small business entities.

In summary, most of the actions in this proposed rule, if implemented, would be expected to either have no direct economic effect on any small business entities or result in an increase in economic benefits. The two proposed actions that would be expected to adversely impact small entities would only be expected to result in minor reductions in revenue. As a result, this proposed rule, if implemented, would not be expected to have a significant economic effect on a substantial number of small entities. As a result, an initial regulatory flexibility analysis is not required and none has been prepared.

List of Subjects in 50 CFR Part 622

Atlantic, Coastal Migratory Pelagic Resources, Cobia, Fisheries, Fishing, Gulf, King mackerel, Spanish mackerel.

Dated: October 24, 2014.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.2, the definition of migratory group is revised to read as follows:

§ 622.2 Definitions and acronyms.

* * * * *

Migratory group, for king mackerel, Spanish mackerel, and cobia, means a group of fish that may or may not be a separate genetic stock, but that is treated as a separate stock for management purposes. King mackerel, Spanish mackerel, and cobia are divided into migratory groups—the boundaries between these groups are specified in § 622.369.

* * * * *

3. In § 622.7, paragraph (b)(1) is revised to read as follows:

§ 622.7 Fishing years.

* * * * *

(b) * * *

(1) Gulf migratory group king mackerel—(i) Eastern Zone—July 1 through June 30, except the northern subzone of the Florida west coast subzone, which has a fishing year of October 1 through September 30.

(ii) Western Zone—July 1 through June 30.

* * * * *

4. Add § 622.369 to subpart Q to read as follows:

§ 622.369 Description of zones and subzones.

(a) Migratory groups of king mackerel. In the EEZ, king mackerel are divided into the Gulf migratory group and the Atlantic migratory group. The Gulf migratory group is bound by a line extending east of the U.S./Mexico border and the summer/winter jurisdictional boundary. The Atlantic migratory group is bound by the summer/winter jurisdictional boundary and a line from the intersection point of Connecticut, Rhode Island, and New York (as described in § 600.105(a) of this chapter). From April 1 through October 31, the summer jurisdictional boundary separates the Gulf and Atlantic migratory groups of king mackerel by a line extending due west from the Monroe/Collier County, FL, boundary. From November 1 through March 31, the winter jurisdictional boundary separates the Gulf and Atlantic migratory groups of king mackerel by a line extending due east from the Volusia/Flagler County, FL, boundary. See Table 1 of this section for the boundary coordinates. See Figures 1 and 2 in Appendix G of this part for illustration.

(1) Gulf migratory group. The Gulf migratory group is divided into western and eastern zones separated by a line extending due south from the Alabama/Florida border. See Table 1 of this section for the boundary coordinates. See Figures 1 and 2 in Appendix G of this part for illustration.

(i) Western zone. The western zone encompasses an area of the EEZ north of a line extending east of the US/Mexico border, and west of a line extending due south of the Alabama/Florida border, including the EEZ off Texas, Louisiana, Mississippi, and Alabama. This zone remains the same year round.

(ii) Eastern zone. The eastern zone is divided into the Florida west coast subzone and the Florida east coast subzone.

(A) Florida west coast subzone. The Florida west coast subzone is further divided into the northern and southern subzones by a line extending due west from the Lee/Collier County, FL, boundary.

(1) Northern subzone. The northern subzone encompasses an area of the EEZ east of a line extending due south of the Florida/Alabama border, and north of a line extending due west of the Lee/Collier County, FL, boundary, and remains the same area year round.

(2) Southern subzone. From November 1 through March 31, the southern subzone encompasses an area of the EEZ south of a line extending due west of the Lee/Collier County, FL, boundary on the Florida west coast, and south of a line extending due east of the Monroe/Miami-Dade County, FL, boundary on the Florida east coast, which includes the EEZ off Collier and Monroe Counties, FL. From April 1 through October 31, the southern subzone is reduced to the EEZ off Collier County, and the EEZ off Monroe County becomes part of the Atlantic migratory group area.

(B) Florida east coast subzone. From November 1 through March 31, the Florida east coast subzone encompasses an area of the EEZ south of a line extending due east of the Flagler/Volusia County, FL, boundary, and north of a line extending due east of the Miami-Dade/Monroe County, FL, boundary. From April 1 through October 31, the Florida east coast subzone is not part of the Gulf migratory group king mackerel area; it is part of the Atlantic migratory group king mackerel area.

(2) Atlantic migratory group. The Atlantic migratory group is divided into the northern and southern zones separated by a line extending from the North Carolina/South Carolina border, as specified in § 622.2. See Table 1 of this section for the boundary coordinates. See Figures 1 and 2 in Appendix G of this part for illustration. See § 622.385(a)(1) for a description of the areas for Atlantic migratory group king mackerel commercial trip limits.

(i) Northern zone. The northern zone encompasses an area of the EEZ south of a line extending from the intersection point of New York, Connecticut, and Rhode Island (as described in § 600.105(a) of this chapter), and north of a line extending from the North Carolina/South Carolina border, as specified in § 622.2, including the EEZ off each state from North Carolina to New York. This zone remains the same year round.

(ii) Southern zone. From April 1 through October 31, the southern zone encompasses an area of the EEZ south of a line extending from the North Carolina/South Carolina border, as specified in § 622.2, and south of a line extending due west of the Lee/Collier County, FL, boundary. From November 1 through March 31, the southern zone encompasses an area of the EEZ south of a line extending from the North Carolina/South Carolina border, as specified in § 622.2, and north of a line extending due east of the Flagler/Volusia County, FL, boundary.

Table 1 to § 622.369—King Mackerel Description of Zones
[For illustration, see Figures 1 and 2 in Appendix G of this part]
Area | Boundary 1 | Boundary 2: Summer | Boundary 2: Winter
Gulf Migratory Group—Western Zone | U.S./Mexico A line east of the intersection of 25°58′30.57″ N lat. and 96°55′27.37″ W long | AL/FL 87°31′6″ W long.
Gulf Migratory Group—Eastern Zone: Florida West Coast Northern Subzone | AL/FL 87°31′6″ W long | Lee/Collier, 26°19′48″ N lat.
Gulf Migratory Group—Eastern Zone: Florida West Coast Southern Subzone | Lee/Collier 26°19′48″ N lat | Collier/Monroe 25°48′ N lat | Monroe/Miami-Dade, 25°20′24″ N lat.
Gulf Migratory Group—Eastern Zone: Florida East Coast Subzone | Monroe/Miami-Dade 25°20′24″ N lat | NA | Volusia/Flagler, 29°25′ N lat.
Atlantic Migratory Group—Northern Zone | NY/CT/RI, 41°18′16.249″ N lat. and 71°54′28.477″ W long. southeast to 37°22′32.75″ N lat. and the intersection point with the outward boundary of the EEZ | NC/SC, a line extending in a direction of 135°34′55″ from true north beginning at 33°51′07.9″ N lat. and 78°32′32.6″ W long. to the intersection point with the outward boundary of the EEZ.
Atlantic Migratory Group—Southern Zone | NC/SC, a line extending in a direction of 135°34′55″ from true north beginning at 33°51′07.9″ N lat. and 78°32′32.6″ W long. to the intersection point with the outward boundary of the EEZ | Collier/Monroe, 25°48′ N lat | Volusia/Flagler, 29°25′ N lat.

(b) Migratory groups of Spanish mackerel—(1) Gulf migratory group. In the EEZ, the Gulf migratory group is bounded by a line extending east of the US/Mexico border and a line extending due east of the Monroe/Miami-Dade County, FL, boundary. See Table 2 of this section for the boundary coordinates. See Figure 3 in Appendix G of this part for illustration.

(2) Atlantic migratory group. In the EEZ, the Atlantic migratory group is bounded by a line extending due east of the Monroe/Miami-Dade County, FL, boundary and a line extending from the intersection point of New York, Connecticut, and Rhode Island (as described in § 600.105(a) of this chapter). The Atlantic migratory group is divided into the northern and southern zones. See Table 2 of this section for the boundary coordinates. See Figure 3 in Appendix G of this part for illustration. See § 622.385(b)(1) for a description of the areas for Atlantic migratory group Spanish mackerel commercial trip limits.

(i) Northern zone. The northern zone encompasses an area of the EEZ south of a line extending from the intersection point of New York, Connecticut, and Rhode Island (as described in § 600.105(a) of this chapter), and north of a line extending from the North Carolina/South Carolina border, as specified in § 622.2, including the EEZ off each state from North Carolina to New York.

(ii) Southern zone. The southern zone encompasses an area of the EEZ south of a line extending from the North Carolina/South Carolina border, as specified in § 622.2, and north of a line extending due east of the Monroe/Miami-Dade County, FL, boundary, including the EEZ off South Carolina, Georgia, and Florida.

Table 2 to § 622.369—Spanish Mackerel Description of Zones
[For illustration, see Figure 3 in Appendix G of this part]
Area | Boundary 1 | Boundary 2
Gulf Migratory Group | US/Mexico A line east of the intersection of 25°58′30.57″ N lat. and 96°55′27.37″ W long | Monroe/Miami-Dade 25°20′24″ N lat.
Atlantic Migratory Group—Northern Zone | NY/CT/RI, 41°18′16.249″ N lat. and 71°54′28.477″ W long. southeast to 37°22′32.75″ N lat. and the intersection point with the outward boundary of the EEZ | NC/SC, a line extending in a direction of 135°34′55″ from true north beginning at 33°51′07.9″ N lat. and 78°32′32.6″ W long. to the intersection point with the outward boundary of the EEZ.
Atlantic Migratory Group—Southern Zone | NC/SC, a line extending in a direction of 135°34′55″ from true north beginning at 33°51′07.9″ N lat. and 78°32′32.6″ W long. to the intersection point with the outward boundary of the EEZ | Monroe/Miami-Dade 25°20′24″ N lat.

(c) Migratory groups of cobia—(1) Gulf migratory group. In the EEZ, the Gulf migratory group is bounded by a line extending east from the U.S./Mexico border and a line extending due east from the Florida/Georgia border. See Table 3 of this section for the boundary coordinates. (See Figure 4 in Appendix G of this part for illustration.)

(i) Gulf zone. The Gulf zone encompasses an area of the EEZ north of a line extending east of the U.S./Mexico border, and north and west of the line of demarcation between the Atlantic Ocean and the Gulf of Mexico (the Council boundary, as described in § 600.105(c) of this chapter).

(ii) Florida east coast zone. The Florida east coast zone encompasses an area of the EEZ south and east of the line of demarcation between the Atlantic Ocean and the Gulf of Mexico (as described in § 600.105(c) of this chapter), and south of a line extending due east from the Florida/Georgia border.

(2) Atlantic migratory group. In the EEZ, the Atlantic migratory group is bounded by a line extending from the intersection point of New York, Connecticut, and Rhode Island (as described in § 600.105(a) of this chapter) and a line extending due east of the Florida/Georgia border. See Table 3 of this section for the boundary coordinates.

Table 3 to § 622.369—Cobia Description of Zones
[For illustration, see Figure 4 in Appendix G of this part]
Area | Boundary 1 | Boundary 2
Gulf Migratory Group—Gulf Zone | US/Mexico—A line east of the intersection of 25°58′30.57″ N lat. and 96°55′27.37″ W long | Council Boundary—the intersection of the outer boundary of the EEZ and 83°00′ W long., north to 24°35′ N lat., (near the Dry Tortugas Islands), then east to the mainland.
Gulf Migratory Group—Florida East Coast Zone | Council Boundary—the intersection of the outer boundary of the EEZ and 83°00′ W long., north to 24°35′ N lat., (near the Dry Tortugas Islands), then east to the mainland | FL/GA, 30°42′45.6″ N lat.
Atlantic Migratory Group | NY/CT/RI, 41°18′16.249″ N lat. and 71°54′28.477″ W long. southeast to 37°22′32.75″ N lat. and the intersection point with the outward boundary of the EEZ | FL/GA, 30°42′45.6″ N lat.

5. In § 622.375, paragraph (a) is revised to read as follows:

§ 622.375 Authorized and unauthorized gear.

(a) Authorized gear—(1) King and Spanish mackerel. Subject to the prohibitions on gear/methods specified in § 622.9, the following are the only fishing gears that may be used in the Gulf, Mid-Atlantic, and South Atlantic EEZ in directed fisheries for king and Spanish mackerel:

(i) King mackerel, Atlantic migratory group—

(A) North of 34°37.3′ N. lat., the latitude of Cape Lookout Light, NC—all gear except drift gillnet and long gillnet.

(B) South of 34°37.3′ N. lat.—automatic reel, bandit gear, handline, and rod and reel.

(ii) King mackerel, Gulf migratory group—hook-and-line gear and, in the southern Florida west coast subzone only, run-around gillnet. (See § 622.369(a)(1)(ii)(A)(2) for a description of the Florida west coast southern subzone.)

(iii) Spanish mackerel, Atlantic migratory group—automatic reel, bandit gear, handline, rod and reel, cast net, run-around gillnet, and stab net.

(iv) Spanish mackerel, Gulf migratory group—all gear except drift gillnet, long gillnet, and purse seine.

(2) Cobia. Subject to the prohibitions on gear/methods specified in § 622.9, the following are the only fishing gears that may be used in the Gulf, Mid-Atlantic, and South Atlantic EEZ for cobia.

(i) Cobia in the Mid-Atlantic and South Atlantic EEZ—automatic reel, bandit gear, handline, rod and reel, pelagic longline, and spear (including powerheads).

(ii) Cobia in the Gulf EEZ—all gear except drift gillnet and long gillnet.

* * * * *

6. Section 622.378 is revised to read as follows:

§ 622.378 Area and seasonal closures.

(a) Seasonal closures of the gillnet component for Gulf migratory group king mackerel. The gillnet component for Gulf group king mackerel in or from the Florida west coast southern subzone is closed each fishing year from July 1 until 6 a.m. on the day after the Martin Luther King Jr. Federal holiday. The gillnet component is open on the first weekend following the Martin Luther King Jr. holiday, provided a notification of closure has not been filed under § 622.8(b). The gillnet component is closed all subsequent weekends and observed Federal holidays. Weekend closures are effective from 6 a.m. Saturday to 6 a.m. Monday. Holiday closures are effective from 6 a.m. on the observed Federal holiday to 6 a.m. the following day. All times are eastern standard time. During these closures, a person aboard a vessel using or possessing a gillnet with a stretched-mesh size of 4.75 inches (12.1 cm) or larger in the southern Florida west coast subzone may not fish for or possess Gulf migratory group king mackerel. (See § 622.369(a)(1)(ii)(A)(2) for a description of the Florida west coast southern subzone.)

(b) [Reserved]

7. In § 622.384, the introductory text, and paragraphs (a), (b), (c), and (d) are revised to read as follows:

§ 622.384 Quotas.

See § 622.8 for general provisions regarding quota applicability and closure and reopening procedures. See § 622.369 for the descriptions of the zones. This section provides quotas and specific quota closure restrictions for coastal migratory pelagic fish. All weights are in round and eviscerated weight combined, unless specified otherwise.

(a) King and Spanish mackerel quotas apply to persons who fish under commercial vessel permits for king or Spanish mackerel, as required under § 622.370(a)(1) or (3). A fish is counted against the quota for the area where it is caught, not where it is landed.

(b) King mackerel—(1) Gulf migratory group. The Gulf migratory group is divided into zones and subzones. The descriptions of the zones and subzones are specified in § 622.369(a). Quotas for the eastern and western zones are as follows:

(i) Eastern zone. The eastern zone is divided into subzones with quotas as follows:

(A) Florida east coast subzone—1,102,896 lb (500,265 kg).

(B) Florida west coast subzone—(1) Southern subzone. The hook-and-line quota is 551,448 lb (250,133 kg) and the run-around gillnet quota is 551,448 lb (250,133 kg).

(2) Northern subzone—178,848 lb (81,124 kg).

(ii) Western zone—1,071,360 lb (485,961 kg).

(2) Atlantic migratory group. The Atlantic migratory group is divided into northern and southern zones. The descriptions of the zones are specified in § 622.369(a). Quotas for the northern and southern zones for the 2015-2016 fishing year and subsequent years are as follows:

(i) Northern zone—1,292,040 lb (586,059 kg). No more than 0.40 million lb (0.18 million kg) may be harvested by purse seines.

(ii) Southern zone—2,587,960 lb (1,173,879 kg).

(iii) Quota transfers. North Carolina or Florida, in consultation with the other states in their respective zones, may request approval from the RA to transfer part or all of their respective zone's annual commercial quota to the other zone. Requests for transfer of commercial quota for king mackerel must be made by a letter signed by the principal state official with marine fishery management responsibility and expertise of the state requesting the transfer, or his/her previously named designee. The letter must certify that all pertinent state requirements have been met and identify the states involved and the amount of quota to be transferred. For the purposes of quota closures as described in § 622.8, the receiving zone's quota will be the original quota plus any transferred amount, for that fishing season only. Landings associated with any transferred quota will be included in the total landings for the Atlantic migratory group, which will be evaluated relative to the total ACL.

(A) Within 10 working days following the receipt of the letter from the state requesting the transfer, the RA shall notify the appropriate state officials of the disposition of the request. In evaluating requests to transfer a quota, the RA shall consider whether:

(1) The transfer would allow the overall annual quota to be fully harvested; and

(2) The transfer is consistent with the objectives of the FMP and the Magnuson-Stevens Act.

(B) The transfer of quota will be valid only for the fishing year for which the request was made and does not permanently alter the quotas specified in paragraphs (b)(2)(i) and (b)(2)(ii) of this section.

(3) Transit provisions applicable in areas closed due to a quota closure for king mackerel. A vessel with a valid commercial vessel permit for king mackerel that has onboard king mackerel harvested in an open area of the EEZ may transit through areas closed to the harvest of king mackerel due to a quota closure, if fishing gear is appropriately stowed. For the purpose of paragraph (b) of this section, transit means direct and non-stop continuous course through the area. To be appropriately stowed fishing gear means—

(i) A gillnet must be left on the drum. Any additional gillnets not attached to the drum must be stowed below deck.

(ii) A rod and reel must be removed from the rod holder and stowed securely on or below deck. Terminal gear (i.e., hook, leader, sinker, flasher, or bait) must be disconnected and stowed separately from the rod and reel. Sinkers must be disconnected from the down rigger and stowed separately.

(c) Spanish mackerel—(1) Gulf migratory group. [Reserved]

(2) Atlantic migratory group. The Atlantic migratory group is divided into northern and southern zones. The descriptions of the zones are specified in § 622.369(b). The quota for the Atlantic migratory group of Spanish mackerel is 3,130,000 lb (1,419,744 kg). Quotas for the northern and southern zones are as follows:

(i) Northern zone—622,870 lb (282,529 kg).

(ii) Southern zone—2,507,130 lb (1,137,215 kg).

(iii) Quota transfers. North Carolina or Florida, in consultation with the other states in their respective zones, may request approval from the RA to transfer part or all of their respective zone's annual commercial quota to the other zone. Requests for transfer of commercial quota for Spanish mackerel must be made by a letter signed by the principal state official with marine fishery management responsibility and expertise, or his/her previously named designee, for each state involved. The letter must certify that all pertinent state requirements have been met and identify the states involved and the amount of quota to be transferred. For the purposes of quota closures as described in § 622.8, the receiving zone's quota will be the original quota plus any transferred amount, for that fishing season only. Landings associated with any transferred quota will be included in the total landings for the Atlantic migratory group, which will be evaluated relative to the total ACL.

(A) Within 10 working days following the receipt of the letter from the states involved, the RA shall notify the appropriate state officials of the disposition of the request. In evaluating requests to transfer a quota, the RA shall consider whether:

(1) The transfer would allow the overall annual quota to be fully harvested; and

(2) The transfer is consistent with the objectives of the FMP and the Magnuson-Stevens Act.

(B) The transfer of quota will be valid only for the fishing year for which the request was made and does not permanently alter any zone's quota specified in paragraph (c)(2)(i) or (c)(2)(ii) of this section.

(d) Cobia—(1) Gulf migratory group—(i) Gulf zone. For the 2014 fishing year, the stock quota for the Gulf migratory group of cobia in the Gulf zone is 1,420,000 lb (644,101 kg). For the 2015 fishing year, the stock quota is 1,450,000 lb (657,709 kg). For the 2016 fishing year and subsequent fishing years, the stock quota is 1,500,000 lb (680,389 kg).

(ii) Florida east coast zone. The following quota applies to persons who fish for cobia and sell their catch. The quota for the Gulf migratory group of cobia in the Florida east coast zone is 70,000 lb (31,751 kg).

(2) Atlantic migratory group. The following quotas apply to persons who fish for cobia and sell their catch. For the 2014 and 2015 fishing years, the quota for the Atlantic migratory group of cobia is 60,000 lb (27,216 kg). The quota for the 2016 fishing year and subsequent fishing years is 50,000 lb (22,680 kg).

* * * * *

8. In § 622.385, the heading for paragraph (a)(1), the heading for paragraph (a)(2), the second sentence in paragraph (a)(2), and paragraph (a)(2)(ii)(B) are revised; paragraph (a)(2)(iii) is removed; paragraph (a)(2)(iv) is redesignated as paragraph (a)(2)(iii) and revised; and a heading is added to paragraph (b)(1) to read as follows:

§ 622.385 Commercial trip limits.

* * * * *

(a) * * *

(1) Atlantic migratory group. * * *

(2) Gulf migratory group. * * * (See § 622.369(a)(2) for descriptions of the eastern and western zones and § 622.369(a)(2)(ii) for descriptions of the subzones in the eastern zone.)

* * * * *

(ii) * * *

(B) Hook-and-line gear. In the Florida west coast subzone, king mackerel in or from the EEZ may be possessed on board or landed from a vessel with a commercial permit for king mackerel, as required by § 622.370(a)(1), and operating under the hook-and-line gear quotas in § 622.384(b)(1)(i)(B)(1) or (b)(1)(i)(B)(2):

(1) Northern subzone. From October 1, each fishing year, until the northern subzone's hook-and-line gear quota has been harvested—in amounts not exceeding 1,250 lb (567 kg) per day.

(2) Southern subzone. From July 1, each fishing year, until the southern subzone's hook-and-line gear quota has been harvested—in amounts not exceeding 1,250 lb (567 kg) per day.

(iii) Western zone. In the western zone, king mackerel in or from the EEZ may be possessed on board or landed from a vessel for which a commercial permit for king mackerel has been issued, as required under § 622.370(a)(1), from July 1, each fishing year, until a closure of the western zone has been effected under § 622.8(b)—in amounts not exceeding 3,000 lb (1,361 kg) per day.

(b) * * *

(1) Atlantic migratory group. * * *

* * * * *

9. In § 622.388, paragraphs (a)(1), (a)(3), (b)(1), (d)(1), (e), and (f) are revised to read as follows:

§ 622.388 Annual catch limits (ACLs), annual catch targets (ACTs), and accountability measures (AMs).

(a) Gulf migratory group king mackerel—(1) Commercial sector—(i) If commercial landings, as estimated by the SRD, reach or are projected to reach the applicable quota specified in § 622.384(b)(1), the AA will file a notification with the Office of the Federal Register to close the commercial sector for that zone, subzone, or gear type for the remainder of the fishing year.

(ii) The commercial ACL for the Gulf migratory group of king mackerel is 3.456 million lb (1.568 million kg). This ACL is further divided into a commercial ACL for vessels fishing with hook-and-line and a commercial ACL for vessels fishing with run-around gillnets. The hook-and-line ACL (which applies to the entire Gulf) is 2,904,552 lb (1,317,483 kg) and the run-around gillnet ACL (which applies to the Gulf eastern zone Florida west coast southern subzone) is 551,448 lb (250,133 kg).

* * * * *

(3) For purposes of tracking the ACL, recreational landings will be monitored based on the commercial fishing year.

* * * * *

(b) Atlantic migratory group king mackerel—(1) Commercial sector—(i) If commercial landings, as estimated by the SRD, reach or are projected to reach the applicable quota specified in § 622.384(b)(2), the AA will file a notification with the Office of the Federal Register to close the commercial sector for that zone for the remainder of the fishing year.

(ii) In addition to the measures specified in paragraph (b)(1)(i) of this section, if the sum of the commercial and recreational landings, as estimated by the SRD, exceeds the stock ACL, as specified in paragraph (b)(3) of this section, and Atlantic migratory group king mackerel are overfished, based on the most recent status of U.S. Fisheries Report to Congress, the AA will file a notification with the Office of the Federal Register, at or near the beginning of the following fishing year to reduce the commercial quota for that zone for that following year by the amount of any commercial sector overage in the prior fishing year for that zone.

(iii) The commercial ACL for the Atlantic migratory group of king mackerel is 3.88 million lb (1.76 million kg).

* * * * *

(d) Atlantic migratory group Spanish mackerel—(1) Commercial sector. (i) If commercial landings, as estimated by the SRD, reach or are projected to reach the applicable quota specified in § 622.384(c)(2), the AA will file a notification with the Office of the Federal Register to close the commercial sector for that zone for the remainder of the fishing year.

(ii) In addition to the measures specified in paragraph (d)(1)(i) of this section, if the sum of the commercial and recreational landings, as estimated by the SRD, exceeds the stock ACL, as specified in paragraph (d)(3) of this section, and Atlantic migratory group Spanish mackerel are overfished, based on the most recent status of U.S. Fisheries Report to Congress, the AA will file a notification with the Office of the Federal Register, at or near the beginning of the following fishing year to reduce the commercial quota for that zone for that following year by the amount of any commercial sector overage in the prior fishing year for that zone.

(iii) The commercial ACL for the Atlantic migratory group Spanish mackerel is 3.13 million lb (1.42 million kg).

* * * * *

(e) Gulf migratory group cobia—(1) Gulf zone. (i) If the sum of all cobia landings, as estimated by the SRD, reaches or is projected to reach the stock quota (stock ACT), specified in § 622.384(d)(1), the AA will file a notification with the Office of the Federal Register to prohibit the harvest of Gulf migratory group cobia in the Gulf zone for the remainder of the fishing year. On and after the effective date of such a notification, all sale and purchase of Gulf migratory group cobia in the Gulf zone is prohibited and the possession limit of this species in or from the Gulf EEZ is zero. This possession limit also applies in the Gulf on board a vessel for which a valid Federal charter vessel/headboat permit for coastal migratory pelagic fish has been issued, without regard to where such species were harvested, i.e. in state or Federal water.

(ii) The stock ACLs for Gulf migratory group cobia in the Gulf zone are 1,570,000 lb (712,140 kg) for 2014, 1,610,000 lb (730,284 kg) for 2015, and 1,660,000 lb (752,963 kg) for 2016 and subsequent fishing years.

(2) Florida east coast zone—(i) The following ACLs and AMs apply to cobia that are sold. (A) If the sum of cobia landings that are sold, as estimated by the SRD, reach or are projected to reach the quota specified in § 622.384(d)(1)(ii) (ACL), the AA will file a notification with the Office of the Federal Register to prohibit the sale and purchase of cobia in or from the Florida east coast zone for the remainder of the fishing year.

(B) In addition to the measures specified in paragraph (e)(2)(i)(A) of this section, if the sum of cobia landings that are sold and not sold in or from the Florida east coast zone, as estimated by the SRD, exceeds the stock ACL for the Florida east coast zone, as specified in paragraph (e)(2)(iii) of this section, and Gulf migratory group cobia are overfished, based on the most recent status of U.S. Fisheries Report to Congress, the AA will file a notification with the Office of the Federal Register, at or near the beginning of the following fishing year to reduce the quota (ACL) for the Florida east coast zone cobia that are sold for that following year by the amount of any overage in the prior fishing year.

(ii) The following ACLs and AMs apply to cobia that are not sold. (A) If the sum of cobia landings that are sold and not sold, as estimated by the SRD, exceeds the stock ACL, as specified in paragraph (e)(2)(iii) of this section, the AA will file a notification with the Office of the Federal Register, at or near the beginning of the following fishing year to reduce the length of the following fishing season by the amount necessary to ensure landings may achieve the applicable ACT, but do not exceed the applicable ACL in the following fishing year. Further, during that following year, if necessary, the AA may file additional notification with the Office of the Federal Register to readjust the reduced fishing season to ensure harvest achieves the ACT but does not exceed the ACL. The applicable ACTs for the Florida east coast zone of cobia are 670,000 lb (303,907 kg) for 2014, 680,000 lb (308,443 kg) for 2015, and 710,000 lb (322,051 kg) for 2016 and subsequent fishing years. The applicable ACLs for the Florida east coast zone of cobia are 810,000 lb (367,410 kg) for 2014, 830,000 lb (376,482 kg) for 2015, and 860,000 lb (390,089 kg) for 2016 and subsequent fishing years.

(B) In addition to the measures specified in paragraph (e)(2)(ii)(A) of this section, if the sum of the cobia landings that are sold and not sold in or from the Florida east coast zone, as estimated by the SRD, exceeds the stock ACL, as specified in paragraph (e)(2)(iii) of this section, and Gulf migratory group cobia are overfished, based on the most recent status of U.S. Fisheries Report to Congress, the AA will file a notification with the Office of the Federal Register, at or near the beginning of the following fishing year to reduce the applicable ACL and applicable ACT for the Florida east coast zone for that following year by the amount of any ACL overage in the prior fishing year.

(C) Landings will be evaluated relative to the ACL based on a moving multi-year average of landings, as described in the FMP.

(iii) The stock ACLs for Florida east coast zone cobia are 880,000 lb (399,161 kg) for 2014, 900,000 lb (408,233 kg) for 2015, and 930,000 lb (421,841 kg) for 2016 and subsequent fishing years.

(f) Atlantic migratory group cobia—(1) The following ACLs and AMs apply to cobia that are sold—

(i) If the sum of the cobia landings that are sold, as estimated by the SRD, reach or are projected to reach the quota specified in § 622.384(d)(2) (ACL), the AA will file a notification with the Office of the Federal Register to prohibit the sale and purchase of cobia for the remainder of the fishing year.

(ii) In addition to the measures specified in paragraph (f)(1)(i) of this section, if the sum of the cobia landings that are sold and not sold in or from the Atlantic migratory group, as estimated by the SRD, exceeds the stock ACL, as specified in paragraph (f)(3) of this section, and Atlantic migratory group cobia are overfished, based on the most recent status of U.S. Fisheries Report to Congress, the AA will file a notification with the Office of the Federal Register, at or near the beginning of the following fishing year to reduce the applicable quota (ACL), as specified in paragraph (f)(1)(i) of this section, for that following year by the amount of any applicable sector-specific ACL overage in the prior fishing year.

(2) The following ACLs and AMs apply to cobia that are not sold.

(i) If the sum of the cobia landings that are sold and not sold, as estimated by the SRD, exceeds the stock ACL, as specified in paragraph (f)(3) of this section, the AA will file a notification with the Office of the Federal Register, at or near the beginning of the following fishing year to reduce the length of the following fishing season by the amount necessary to ensure landings may achieve the applicable ACT, but do not exceed the applicable ACL in the following fishing year. Further, during that following year, if necessary, the AA may file additional notification with the Office of the Federal Register to readjust the reduced fishing season to ensure harvest achieves the ACT but does not exceed the ACL. The applicable ACTs for the Atlantic migratory group of cobia are 550,000 lb (249,476 kg) for 2014, 520,000 lb (235,868 kg) for 2015, and 500,000 lb (226,796 kg) for 2016 and subsequent fishing years. The applicable ACLs for the Atlantic migratory group of cobia are 670,000 lb (303,907 kg) for 2014, 630,000 lb (285,763 kg) for 2015, and 620,000 lb (281,227 kg) for 2016 and subsequent fishing years.

(ii) In addition to the measures specified in paragraph (f)(2)(i) of this section, if the sum of cobia landings that are sold and not sold, as estimated by the SRD, exceeds the stock ACL, as specified in paragraph (f)(3) of this section, and Atlantic migratory group cobia are overfished, based on the most recent status of U.S. Fisheries Report to Congress, the AA will file a notification with the Office of the Federal Register, at or near the beginning of the following fishing year to reduce the applicable ACL and ACT, as specified in paragraph (f)(2)(i) of this section, for that following year by the amount of any applicable sector-specific overage in the prior fishing year.

(iii) Landings will be evaluated relative to the ACL based on a moving multi-year average of landings, as described in the FMP.

(3) The stock ACLs for Atlantic migratory group cobia are 730,000 lb (331,122 kg) for 2014, 690,000 lb (312,979 kg) for 2015, and 670,000 lb (303,907 kg) for 2016 and subsequent fishing years.

10. Section 622.389 is revised to read as follows:

§ 622.389 Adjustment of management measures.

In accordance with the framework procedures of the FMP for Coastal Migratory Pelagic Resources, the RA may establish or modify, and the applicable council is required to approve, the following items specified in paragraph (a) of this section for coastal migratory pelagic fish. (Note: The applicable council refers to the council whose jurisdiction applies to the management measures.)

(a) For a species or species group: Reporting and monitoring requirements, permitting requirements, bag and possession limits (including a bag limit of zero), size limits, vessel trip limits, closed seasons or areas and reopenings, acceptable biological catches (ABCs) and ABC control rules, annual catch limits (ACLs) and ACL control rules, accountability measures (AMs), annual catch targets (ACTs), quotas (including a quota of zero), MSY (or proxy), OY, management parameters such as overfished and overfishing definitions, gear restrictions (ranging from regulation to complete prohibition), gear markings and identification, vessel markings and identification, rebuilding plans, and restrictions relative to conditions of harvested fish (maintaining fish in whole condition, use as bait).

(b) [Reserved]

11. Appendix G to part 622 is added to read as follows:

Appendix G to Part 622—Coastal Migratory Pelagics Zone Illustrations

[FR Doc. 2014-25855 Filed 10-30-14; 8:45 am]

BILLING CODE 3510-22-P